FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 7, 2004.

A. Federal Reserve Bank of Atlanta (Sue Costello, Vice President) 1000 Peachtree Street, N.E., Atlanta, Georgia 30303:

1. The Cecil and Olivia Batchelor Family Limited Partnership, J. Gregory Batchelor general partner; and The Olivia and Cecil Batchelor Family Limited Partnership, Rebecca Batchelor Reeves general partner; along with Cecil Batchelor, Oliva Batchelor, J. Gregory Batchelor, Rebecca Batchelor Reeves, Ray Bradley Reeves, Donna Batchelor, and Dependable True Value, Inc., all of Russellville, Alabama; to collectively acquire voting shares of CBS Banc-Corp, Russellville, Alabama, and thereby indirectly acquire voting shares of Citizens Bank & Savings Company, Russellville, Alabama, and Bank of Bolivar, Bolivar, Tennessee.

Board of Governors of the Federal Reserve System, November 17, 2004.
Robert deV. Frierson,
Deputy Secretary of the Board.

[FR Doc. 04-25896 Filed 11-22-04; 8:45 am]

BILLING CODE 6210-01-S